OFFICE OF PERSONNEL MANAGEMENT

Submission for Review: Court Orders Affecting Retirement Benefits

AGENCY: U.S. Office of Personnel Management.

ACTION: 30-day notice and request for comments.

SUMMARY: The Retirement Services, Office of Personnel Management (OPM) offers the general public and other Federal agencies the opportunity to comment on an extension, without change, of a currently approved information collection request (ICR), Court Orders Affecting Retirement Benefits.

DATES: Comments are encouraged and will be accepted until April 27, 2017.

ADDRESSES: Interested persons are invited to submit written comments on the proposed information collection to Office of Information and Regulatory Affairs, Office of Management and Budget, 725 17th Street NW., Washington, DC 20503, Attention: Desk Officer for the Office of Personnel Management or sent by email to oira_submission@omb.eop.gov or faxed to (202) 395-6974.

FOR FURTHER INFORMATION CONTACT: A copy of this ICR, with applicable supporting documentation, may be obtained by contacting the Office of Information and Regulatory Affairs, Office of Management and Budget, 725 17th Street NW., Washington, DC 20503, Attention: Desk Officer for the Office of Personnel Management or sent by email to oira_submission@omb.eop.gov or faxed to (202) 395-6974.

SUPPLEMENTARY INFORMATION: As required by the Paperwork Reduction Act of 1995 (Public Law 104-13, 44 U.S.C. chapter 35) as amended by the Clinger-Cohen Act (Pub. L. 104-106), OPM is soliciting comments for this collection. The information collection (OMB No. 3206-0204) was previously published in the Federal Register on July 21, 2016 at 81 FR 47445 allowing for a 60-day public comment period. No comments were received for this information collection.

Court Orders Affecting Retirement Benefits, 5 CFR 838.221, 838.421 and 838.721 describe how former spouses give us written notice of a court order requiring us to pay benefits to the former spouse. Specific information is needed before OPM can make court-ordered benefit payments. The regulations allow us to make a unique collection of only the information needed for a particular customer case and not over-burden our entire customer base by making a generic information collection request (ICR) that requires the former spouse (or their representative) to possibly review and complete information that we may already have access to.

The purpose of this notice is to allow an additional 30 days for public comments. The Office of Management and Budget is particularly interested in comments that:

1. Evaluate whether the proposed collection of information is necessary for the proper performance of functions of OPM, including whether the information will have practical utility;

2. Evaluate the accuracy of OPM's estimate of the burden of the proposed collection of Information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Retirement Operations, Retirement Services, Office of Personnel Management.

Title: Court Orders Affecting Retirement Benefits, 5 CFR Sections 838.221, Section 838.421 and Section 838.721.

OMB: 3206-0204.

Frequency: On occasion.

Affected Public: Individuals or Households.

Number of Respondents: 19,000.

Estimated Time per Respondent: 30 minutes.

Total Burden Hours: 9,500 hours.

U.S. Office of Personnel Management.
Kathy McGettigan,
Acting Director.

[FR Doc. 2017-06029 Filed 3-27-17; 8:45 am]

BILLING CODE 6325-38-P